DEPARTMENT OF THE INTERIOR

Bureau of Land Management

[L51010000.FX0000.LVRWB09B3350]

Notice of Intent To Prepare an Environmental Impact Statement for the Proposed enXco Desert Harvest Solar Farm Project, Riverside County, CA and Possible Land Use Plan Amendment

AGENCY: Bureau of Land Management, Interior.

ACTION: Notice of Intent.

SUMMARY: In compliance with the National Environmental Policy Act of 1969, as amended (NEPA), and the Federal Land Policy and Management Act of 1976, as amended (FLPMA), the Bureau of Land Management (BLM) Palm Springs South Coast Field Office, Palm Springs, California, intends to prepare an Environmental Impact Statement (EIS), which may include an amendment to the California Desert Conservation Area (CDCA) Plan (1980 as amended), related to enXco's right-of-way (ROW) application for the Desert Harvest Solar Farm Project (Desert Harvest Project), a 150-megawatt (MW) photovoltaic (PV) solar electricity generation project. By this notice the BLM is announcing the beginning of the scoping process to solicit public comments and identify issues related to the EIS.

DATES: This notice initiates the public scoping process for the EIS and possible plan amendment. Comments on issues may be submitted in writing until October 17, 2011. The date(s) and location(s) of any scoping meetings will be announced at least 15 days in advance through the local news media, newspapers and the BLM Web site at: http://www.blm.gov/ca/st/en/fo/palmsprings/Solar_Projects.html. In order to be included in the Draft EIS, all comments must be received prior to the close of the scoping period or 15 days after the last public meeting, whichever is later. We will provide additional opportunities for public participation upon publication of the Draft EIS.

ADDRESSES: Written comments related to the EIS and possible plan amendment may be submitted by the following methods:

• Web site: http://www.blm.gov/ca/st/en.html

• E-mail: CAdesertharvest@blm.gov

• Fax: (951) 697-5299

• Mail: Lynnette Elser, Planning and Environmental Coordinator, BLM California Desert District Office, 22835 Calle San Juan de Los Lagos, Moreno Valley, California 92553

Documents pertinent to these proposals may be examined at the BLM Palm Springs South Coast Field Office, 1201 Bird Center Drive, Palm Springs, California 92262 or at the BLM California Desert District Office at 22835 Calle San Juan de Los Lagos, Moreno Valley, California 92553.

FOR FURTHER INFORMATION CONTACT: For further information and/or to have your name added to our mailing list, contact Lynnette Elser, Planning and Environmental Coordinator; telephone (951) 697-5233; address 22835 Calle San Juan de Los Lagos, Moreno Valley, CA 92553; e-mail lelser@blm.gov. Persons who use a telecommunications device for the deaf (TDD) may call the Federal Information Relay Service (FIRS) at 1-800-877-8339 to contact the above individual during normal business hours. This service is available 24 hours a day, 7 days a week, to leave a message or question with the above individual. You will receive a reply during normal business hours.

SUPPLEMENTARY INFORMATION: The applicant, enXco, has requested a right-of-way (ROW) authorization to construct, operate, maintain, and decommission the Desert Harvest Project. The proposed project would be located on BLM-administered lands in Riverside County about 6 miles north of the rural community of Desert Center, California. The overall site layout and generalized land uses would include a substation, an administration building, operations and maintenance facilities, a transmission line, and temporary construction lay down areas, with a total proposed project footprint of approximately 1,280 acres. The project's 230-kilovolt (kV) generation interconnection transmission line would either be via the First Solar Desert Sunlight 230-kV gen-tie (as a shared facility), or would be located on private and BLM-administered lands and would utilize a planned 230- to 500-kV substation (referred to as the Red Bluff Substation). The Red Bluff Substation would connect the project to the Southern California Edison regional transmission grid. If approved, project construction would begin in late 2013 and would take 9-12 months to complete.

The BLM segregated the public lands located within the Desert Harvest Project's application area from appropriation under the public land and mining laws, but not the mineral leasing or material sales acts, for a period of 25 years for the purpose of protecting potential sites for future solar energy development pursuant to 43 CFR 2091.3-1(e) and 43 CFR 2804.25(e) (76 FR 38416, June 30, 2011).

The purpose of the public scoping process is to determine relevant issues that will influence the scope of the environmental analysis, including alternatives, and guide the process for developing the Draft EIS. At present, the BLM has identified the following preliminary issues: Air quality, biological resources, recreation, cultural resources, water resources, geological resources, special management areas, land use, noise, paleontological resources, public health, socioeconomic, soils, traffic and transportation, and visual resources.

Pursuant to the BLM's CDCA Plan, sites associated with power generation or transmission not identified in the CDCA Plan will be considered through the plan amendment process to determine the suitability of the site for renewable energy development. Since the proposed Desert Harvest Project site was not previously identified as suitable, authorization of the Desert Harvest Project will require amendment of the CDCA Plan. By this notice, the BLM is complying with requirements in 43 CFR 1610.2(c) to notify the public of potential amendments to CDCA Plan predicated on the findings in the EIS. If a land-use-plan amendment is necessary, the BLM will integrate the land-use planning process with the NEPA process for the Desert Harvest Project. A preliminary list of the potential planning criteria that will be used to help guide and define the scope of the plan amendment process includes:

1. The plan amendments will be completed in compliance with the FLPMA, NEPA, and all other relevant Federal laws, executive orders, and BLM policies;

2. Existing, valid plan decisions will not be changed and any new plan decisions will not conflict with existing plan decisions; and

3. The plan amendment(s) will recognize valid existing rights.

The BLM will utilize and coordinate the NEPA public participation requirements to assist the agency in satisfying the public involvement requirements under Section 106 of the National Historic Preservation Act (NHPA) (16 U.S.C. 470(f)) as provided for in 36 CFR 800.2(d)(3). Information about historic and cultural resources within the area potentially affected by the proposed Desert Harvest Project and potential CDCA Plan amendment will assist the BLM in identifying and evaluating impacts to such resources in the context of both NEPA and Section 106 of the NHPA. Native American tribal consultations will be conducted in accordance with applicable statutes, policies, and directives, and tribal concerns will be given due consideration, including impacts on Indian trust assets. Federal, State, and local agencies, along with tribes and other stakeholders that may be interested or affected by the BLM's decision on this project are invited to participate in the scoping process and, if eligible, may request or be requested by the BLM to participate as a cooperating agency.

Before including your address, phone number, e-mail address, or other personal identifying information in your comment, you should be aware that your entire comment—including your personal identifying information—may be made publicly available at any time. While you can ask us in your comment to withhold your personal identifying information from public review, we cannot guarantee that we will be able to do so.

Thomas Pogacnik,
Deputy State Director, Natural Resources.

Authority: 40 CFR 1501.7 and 43 CFR 1610.2

[FR Doc. 2011-23624 Filed 9-14-11; 8:45 am]

BILLING CODE 4310-40-P